DEPARTMENT OF ENERGY

Blue Ribbon Commission on America's Nuclear Future

AGENCY: Office of Nuclear Energy, Department of Energy.

ACTION: Notice of open meeting.

SUMMARY: This notice announces an open meeting of the Blue Ribbon Commission on America's Nuclear Future (the Commission). The Commission was organized pursuant to the Federal Advisory Committee Act (Pub. L. 92-463, 86 Stat. 770) (the Act). This notice is provided in accordance with the Act.

This notice is being published less that 15 days from the date of the meeting due to logistical circumstances and the inability to delay and reschedule the meeting in a timely fashion. In addition, the dates for this meeting and the location, Washington, DC, were made public during the September 2010 open meeting of the Commission and posted on http://www.brc.gov.

DATES: Monday, November 15, 2010, 8:30 a.m.-4:30 p.m. Tuesday, November 16, 2010, 8:30 a.m.-12:15 p.m.

ADDRESSES: Washington Marriott Metro Center, 775 12th Street, NW., Washington, DC 20005, Telephone: (202) 737-2200.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information will be available at http://www.brc.gov.

SUPPLEMENTARY INFORMATION: Background: The President directed that the Commission be established to conduct a comprehensive review of policies for managing the back end of the nuclear fuel cycle. The Commission will provide advice and make recommendations on issues including alternatives for the storage, processing, and disposal of civilian and defense spent nuclear fuel and nuclear waste. The Commission is scheduled to submit a draft report to the Secretary of Energy in July 2011 and a final report in January 2012.

This is the fifth full Commission meeting. Previous meetings were held in March, May, July, and September 2010. Webcasts of the previous meetings along with meeting transcripts and presentation are available at http://www.brc.gov.

Purpose of the Meeting: One purpose of this meeting is to better understand the fuel cycle policies that have been established by other leading nuclear energy nations. The Commission will hear from a series of speakers who can provide insights on the views of State and Tribal governments and members of the public.

Tentative Agenda: The meeting is expected to start at 8:30 a.m. on Monday, November 15, 2010. The schedule for the 15th will include presentations and statements to the Commission. The meeting will resume at 8:30 a.m. on Tuesday, November 16, 2010, with presentations and statements to the Commission and Commission discussions lasting until about 11 a.m. The meeting will conclude with public statements and will end at approximately 12:15 p.m.

Public Participation: Individuals and representatives of organizations who would like to offer comments and suggestions may do so at the end of the public session on Tuesday, November 16, 2010. Approximately 1 hour will be reserved for public comments from 11:15 a.m. to 12:15 p.m. Time allotted per speaker will depend on the number who wish to speak but will not exceed 5 minutes. The Designated Federal Officer is empowered to conduct the meeting in a fashion that will facilitate the orderly conduct of business. Those wishing to speak should register to do so beginning at 8 a.m. on November 16, 2010, at the Washington Marriott at Metro Center. Registration to speak will close at 10 a.m., November 16, 2010.

Those not able to attend the meeting or have insufficient time to address the subcommittee are invited to send a written statement to Timothy A. Frazier, U.S. Department of Energy 1000 Independence Avenue, SW., Washington DC 20585, e-mail to CommissionDFO@nuclear.energy.gov, or post comments on the Commission Web site at http://www.brc.gov.

Additionally, the meeting will be available via live video webcast. The link will be available at http://www.brc.gov.

Minutes: The minutes of the meeting will be available at http://www.brc.gov or by contacting Mr. Frazier. He may be reached at the postal address or e-mail address above.

Issued in Washington, DC on October 29, 2010.
LaTanya R. Butler,
Acting Deputy Committee Management Officer.

[FR Doc. 2010-27902 Filed 11-3-10; 8:45 am]

BILLING CODE 6450-01-P